ENVIRONMENTAL PROTECTION AGENCY

[EPA-R05-OAR-2007-0653; FRL-8525-4]

Adequacy Status of the Metro-East St. Louis, IL, Submitted 8-Hour Ozone Attainment Demonstration and State Implementation Plan for Transportation Conformity Purposes

AGENCY: Environmental Protection Agency (EPA).

ACTION: Notice of adequacy.

SUMMARY: In this notice, EPA is notifying the public that we have found that the motor vehicle emissions budgets (MVEBs) for 8-hour ozone in Metro-East St. Louis (Madison, Monroe, St. Clair, and Jersey Counties), Illinois, are adequate for conformity purposes. As a result of our finding, Metro-East St. Louis must use the MVEBs from the 8-hour ozone attainment demonstration and state implementation plan (SIP) submitted on July 2, 2007, for future conformity determinations.

DATES: This finding is effective February 20, 2008.

FOR FURTHER INFORMATION CONTACT: Anthony Maietta, Life Scientist, Criteria Pollutant Section (AR-18J), Air Programs Branch, Air and Radiation Division, United States Environmental Protection Agency, Region 5, 77 West Jackson Boulevard, Chicago, Illinois 60604, (312) 353-8777, Maietta.anthony@epa.gov.

SUPPLEMENTARY INFORMATION: Throughout this document, whenever “we”, “us” or “our” is used, we mean EPA.

Background

Today's action is simply an announcement of a finding that we have already made. EPA Region 5 sent a letter to the Illinois Environmental Protection Agency on December 19, 2007, stating that the 2008 and 2009 MVEBs in Metro-East St. Louis are adequate. Illinois submitted the budgets on July 2, 2007, as part of the 8-hour ozone attainment demonstration for this area. This submittal was announced on EPA's conformity Web site, and received no comments: http://www.epa.gov/otaq/stateresources/transconf/adequacy.htm, (once there, click on “What SIP submissions are currently under EPA adequacy review?”).

The 2008 and 2009 MVEBs, in tons per day (tpd), for volatile organic compounds (VOC) and oxides of nitrogen (NOx) for Metro-East St. Louis (Madison, Monroe, St. Clair, and Jersey Counties) are as follows:

| 2008 MVEB (tpd) | 2009 MVEB (tpd)
VOC | 14.27 | 13.44
NOX | 34.87 | 31.94

Transportation conformity is required by section 176(c) of the Clean Air Act. EPA's conformity rule requires that transportation plans, programs, and projects conform to state air quality implementation plans and establishes the criteria and procedures for determining whether or not they do. Conformity to a SIP means that transportation activities will not produce new air quality violations, worsen existing violations, or delay timely attainment of the national ambient air quality standards.

The criteria by which we determine whether a SIP's motor vehicle emission budgets are adequate for conformity purposes are outlined in 40 CFR 93.118(e)(4). We have described our process for determining the adequacy of submitted SIP budgets in our July 1, 2004, preamble starting at 69 FR 40038, and we used the information in these resources while making our adequacy determination. Please note that an adequacy review is separate from EPA's completeness review, and it also should not be used to prejudge EPA's ultimate approval of the SIP. Even if we find a budget adequate, the SIP could later be disapproved.

The finding and the response to comments are available at EPA's conformity Web site: http://www.epa.gov/otaq/stateresources/transconf/adequacy.htm.

Authority: 42 U.S.C. 7401-7671 q.

Dated: January 24, 2008.
Margaret Guerriero,
Acting Regional Administrator, Region 5.

[FR Doc. E8-2084 Filed 2-4-08; 8:45 am]

BILLING CODE 6560-50-P